DEPARTMENT OF ENERGY

Federal Energy Regulatory Commission

[Project No. 13317-000]

Bishop Paiute Tribe; Notice of Competing Preliminary Permit Application Accepted for Filing and Soliting Comments and Motions To Intervene

April 21, 2010.

On November 3, 2008, the Bishop Paiute Tribe filed an application for a preliminary permit, pursuant to section 4(f) of the Federal Power Act (FPA), proposing to study the feasibility of the Bishop Paiute Hydroelectric Project to be located on a new penstock between the base of a mine and Morgan Creek in Inyo County, California. The proposed project would be located within the Inyo National Forest on lands of the U.S. Forest Service. The sole purpose of a preliminary permit, if issued, is to grant the permit holder priority to file a license application during the permit term. A preliminary permit does not authorize the permit holder to perform any land-disturbing activities or otherwise enter upon lands or waters owned by others without the owners' express permission.

The proposed project would consist of: (1) The existing Pine Creek Mine site and access tunnel; (2) an existing 12-foot by 12-foot by 30-foot reinforced concrete plug in the Pine Creek Mine; (3) a proposed 18-inch or smaller steel penstock; (4) a proposed 250-kilowatt generating unit; (5) a proposed 2.4-kilovolt, 60-foot-long transmission line; and (6) appurtenant facilities. The project would have an annual generating capacity of 2.3 gigawatt-hours that would be sold to a local utility.

Applicant Contact: Mr. Monty Bengochia, Chairman, Bishop Paiute Tribe, 50 Tu Su Lane, Bishop, CA 93514; (760) 873-3584.

FERC Contact: Emily Carter; (202) 502-6512.

Competing Application: This application competes with Project No. 12532-002 filed March 3, 2008. Competing applications were due by close of business on November 18, 2008.

Deadline for Filing Comments or Motions to Intervene: 60 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filings-comments.asp. More information about this project, including a copy of the application, can be viewed or printed on the “eLibrary” link of the Commission's Web site at http://www.ferc.gov/docs-filing/elibrary.asp. Enter the docket number (P-13317) in the docket number field to access the document. For assistance, call toll-free 1-866-208-3372.

Kimberly D. Bose,
Secretary.

[FR Doc. 2010-9934 Filed 4-28-10; 8:45 am]

BILLING CODE 6717-01-P